Executive Order 13383 of July 15, 2005

Amending Executive Orders 12139 and 12949 in Light of

Establishment of the Office of Director of National Intelligence

By the authority vested in me as President by the Constitution and the laws of the United States of America, it is hereby ordered as follows:

Section. 1. Section 1-103 of Executive Order 12139 of May 23, 1979, is amended by:

(a) striking “(c) Director of Central Intelligence” and inserting in lieu thereof “(c) Director of National Intelligence”;

(b) striking “(g) Deputy Director of Central Intelligence” and inserting in lieu thereof “(g) Director of the Central Intelligence Agency”; and

(c) adding at the end thereof “(h) Principal Deputy Director of National Intelligence.”.

Sec. 2. Section 3 of Executive Order 12949 of February 9, 1995, is amended by:

(a) striking “(c) Director of Central Intelligence” and inserting in lieu thereof “Director of National Intelligence”;

(b) striking “and” at the end of subsection (f);

(c) striking “(g) Deputy Director of Central Intelligence.” and inserting in lieu thereof “(g) Director of the Central Intelligence Agency; and”; and

(d) adding at the end thereof “(h) Principal Deputy Director of National Intelligence.”.

Sec. 3. This order is not intended to, and does not, create any right or benefit, substantive or procedural, enforceable by any party at law or in equity against the United States, its departments, agencies, entities, officers, employees, or agents, or any other person.

B

THE WHITE HOUSE,

July 15, 2005.

[FR Doc. 05-14452

Filed 7-19-05; 8:45 am]

Billing code 3195-01-P